DEPARTMENT OF AGRICULTURE

Animal and Plant Health Inspection Service

[Docket No. APHIS-2013-0104]

Notice of Request for Approval of an Information Collection; National Animal Health Laboratory Network Laboratories Annual Inventory Verification for USDA-Owned Equipment

AGENCY: Animal and Plant Health Inspection Service, USDA.

ACTION: New information collection; comment request.

SUMMARY: In accordance with the Paperwork Reduction Act of 1995, this notice announces the Animal and Plant Health Inspection Service's intention to request approval of a new information collection associated with the National Animal Health Laboratory Network laboratories annual inventory verification for U.S. Department of Agriculture-owned equipment.

DATES: We will consider all comments that we receive on or before April 11, 2014.

ADDRESSES: You may submit comments by either of the following methods:

• Federal eRulemaking Portal: Go to http://www.regulations.gov/#!documentDetail;D=APHIS-2013-0104-0001.

• Postal Mail/Commercial Delivery: Send your comment to Docket No. APHIS-2013-0104, Regulatory Analysis and Development, PPD, APHIS, Station 3A-03.8, 4700 River Road Unit 118, Riverdale, MD 20737-1238.

Supporting documents and any comments we receive on this docket may be viewed at http://www.regulations.gov/#!docketDetail;D=APHIS-2013-0104 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the National Animal Health Laboratory Network laboratories annual inventory verification, contact Ms. Cindy Chard-Bergstrom, Microbiologist, National Animal Health Laboratory Network, NVSL, VS, APHIS, 1920 Dayton Road, Building 20, Ames, IA 50010; (515) 337-7198. For copies of more detailed information on the information collection, contact Mrs. Celeste Sickles, APHIS' Information Collection Coordinator, at (301) 851-2908.

SUPPLEMENTARY INFORMATION: Title: National Animal Health Laboratory Network Laboratories Annual Inventory Verification for USDA-Owned Equipment.

OMB Control Number: 0579-XXXX.

Type of Request: Approval of a new information collection.

Abstract: The National Animal Health Laboratory Network (NAHLN) is a cooperative effort between two agencies within the U.S. Department of Agriculture (USDA), the Animal and Plant Health Inspection Service (APHIS) and the National Institute of Food and Agriculture (NIFA). NAHLN was established to coordinate the testing capacities of Federal veterinary diagnostic laboratories with the extensive infrastructure of State and university veterinary diagnostic laboratories. This network enhances the United States' early detection of and response to animal health emergencies, including bioterrorists events, newly emerging disease, and foreign animal disease agents that could threaten the nation's food supply and public health.

In 2002, NAHLN was created when APHIS and NIFA entered into cooperative agreements with 12 State and university veterinary diagnostic laboratories. APHIS has since contracted with additional State and university diagnostic laboratories to assist with testing and surveillance, and NAHLN currently consists of 56 State and university laboratories as well as other Federal laboratories.

At the Federal level, APHIS' National Veterinary Services Laboratories (NVSL) serves as the national veterinary diagnostic reference and confirmatory laboratory. NVSL coordinates activities, participates in methods validation, and provides training, proficiency testing, assistance, materials, and prototypes for diagnostic testing. NVSL also reviews the equipment used by the laboratories within the NAHLN to ensure that the non-USDA laboratories have the equipment resources needed to perform any necessary testing.

As part of the review process, APHIS requires the use of certain information collection activities, including a review spreadsheet, verification of equipment information, the addition of information to the list, and submission of completed spreadsheets.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5705 hours per response.

Respondents: Laboratory directors and State animal health officials.

Estimated annual number of respondents: 39.

Estimated annual number of responses per respondent: 4.

Estimated annual number of responses: 156.

Estimated total annual burden on respondents: 89 hours. (Due to averaging, the total annual burden hours may not equal the product of the annual number of responses multiplied by the reporting burden per response.)

All responses to this notice will be summarized and included in the request for OMB approval. All comments will also become a matter of public record.

Done in Washington, DC, this 3rd day of February 2014.
Kevin Shea,
Administrator, Animal and Plant Health Inspection Service.

[FR Doc. 2014-02762 Filed 2-7-14; 8:45 am]

BILLING CODE 3410-34-P